DEPARTMENT OF TRANSPORTATION

Federal Aviation Administration

Notice of Intent To Rule on Application To Impose and Use the Revenue From a Passenger Facility Charge (PFC) at Melbourne International Airport, Melbourne, FL

AGENCY: Federal Aviation Administration (FAA), DOT.

ACTION: Notice of intent to rule on application.

SUMMARY: The FAA proposes to rule and invites public comment on the application to impose and use the revenue from a PFC at Melbourne International Airport under the provisions of the Aviation Safety and Capacity Expansion Act of 1990 (Title IX of the Omnibus Budget Reconciliation Act of 1990) (Pub. L. 101-508) and part 158 of the Federal Aviation Regulations (14 CFR part 158).

DATES: Comments must be received on or before April 25, 2001.

ADDRESSES: Comments on this application may be mailed or delivered in triplicate to the FAA at the following address: Orlando Airports District Office; 5950 Hazeltine National Drive; Suite 400; Orlando, Florida 32822.

In addition, one copy of any comments submitted to the FAA must be mailed or delivered to Mr. James C. Johnson, Executive Director of the Melbourne Airport Authority at the following address: Melbourne Airport Authority; One Air Terminal Parkway, Suite 220; Post Office Box 1330; Melbourne, Florida 32902-1330.

Air carriers and foreign air carriers may submit copies of written comments previously provided to the Melbourne Airport Authority under § 158.23 of part 158.

FOR FURTHER INFORMATION CONTACT: Armando L. Rovira, Program Manager, Orlando Airports District Office; 5950 Hazeltine National Drive, Suite 400; Orlando, Florida 32822; Phone: (407) 812-6331 Ext. 31. The application may be reviewed in person at this same location.

SUPPLEMENTARY INFORMATION: The FAA proposes to rule and invites public comment on the application to impose and use the revenue from a PFC at Melbourne International Airport under the provisions of the Aviation Safety and Capacity Expansion Act of 1990 (Title IX of the Omnibus Budget Reconciliation Act of 1990) (Pub. L. 101-508) and Part 158 of the Federal Aviation Regulations (14 CFR part 158).

On March 8, 2001, the FAA determined that the application to impose and use the revenue from a PFC submitted by Melbourne Airport Authority was substantially complete within the requirements of § 158.25 of part 158. The FAA will approve or disapprove the application, in whole or in part, no later than July 3, 2001.

The following is a brief overview of the application.

PFC Application No.: 01-05-C-00-MLB.

Level of the proposed PFC: $3.00.

Proposed charge effective date: September 1, 2001.

Proposed charge expiration date: April 1, 2003.

Total estimated net PFC revenue: $1,193,528.

Brief description of proposed project(s):

Extend Runway 9R/27L (700′ × 150′)

Interior Service Road, Phase 1

Acquire Aircraft Loading Bridge

Wetland Inventory & Mitigation Plan

Environmental Permitting

Acquire Flight Information Display System

Auxiliary Passenger Departure Lounge

Class or classes of air carriers which the public agency has requested not be required to collect PFCs: Air Taxi/Commercial Operators (ATCO).

Any person may inspect the application in person at the FAA office listed above under FOR FURTHER INFORMATION CONTACT.

In addition, any person may, upon request, inspect the application, notice and other documents germane to the application in person at the Melbourne Airport Authority.

Issued in Orlando, Florida on March 20, 2001.
W. Dean Stringer,
Manager, Orlando Airports District Office, Southern Region.

[FR Doc. 01-7424 Filed 3-23-01; 8:45 am]

BILLING CODE 4910-13-M